DEPARTMENT OF JUSTICE

[OMB Number 1122-0NEW]

Agency Information Collection Activities; Proposed eCollection eComments; Requested; New Collection; Semi-Annual and Annual Performance Reporting Data Catalog for Formula and Discretionary Grant Programs

AGENCY: Office on Violence Against Women, Department of Justice.

ACTION: 60-Day notice.

SUMMARY: The Department of Justice (DOJ), Office on Violence Against Women will be submitting the following information collection request to the Office of Management and Budget (OMB) for review and approval in accordance with the Paperwork Reduction Act of 1995.

DATES: Comments are encouraged and will be accepted for 60 days until October 22, 2024.

FOR FURTHER INFORMATION CONTACT: If you have additional comments especially on the estimated public burden or associated response time, suggestions, or need a copy of the proposed information collection instrument with instructions or additional information, please contact Cathy Poston, Office on Violence Against Women, at 202-514-5430 or Catherine.poston@usdoj.gov or United States Department of Justice, Office on Violence Against Women, 145 N Street NE, 4W-218, Washington, DC 20530.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Office on Violence Against Women (OVW)'s formula and discretionary grant programs were authorized through the Violence Against Women Act of 1994 (VAWA) and subsequent legislation, including VAWA reauthorizations in 2000, 2005, 2013 and 2022. Funding under OVW's two largest formula grant programs—the STOP Violence Against Women Formula Grant Program and the Sexual Assault Services Formula Program—is distributed to states and territories according to a statutory formula and the states and territories then make subgrants. OVW determines data reporting requirements for each grant program based on what is required by statute and what is necessary for monitoring the awards. OVW must collect performance data from grantees in order to comply with statutory reporting requirements and monitor the grants, among other purposes.

This is a request to consolidate existing previously approved information collections under a new collection—a new consolidated OMB number. This collection is currently covered by a series of approved collections with different OMB numbers that correspond to grant program-specific progress reporting forms. The purpose of obtaining a new, omnibus OMB number for OVW's performance reporting data catalog is to align approval for this information collection with the mechanism through which OVW plans to collect the data, i.e., all grant performance data elements will be maintained in a data catalog that will be used to build web-based collection instruments for each grant program. OVW intends to phase out its use of fillable forms and move to a web-based system for collecting data.

The information obtained through this collection is used in reports to Congress on the effectiveness and use of grant funding, monitoring grant funded activities, and to assess the extent to which grant program goals are being achieved. There are three sets of respondents: formula grant program state administrators, formula program subgrantees, and discretionary program grantees.

Overview of This Information Collection

1. Type of Information Collection: New collection.

2. The Title of the Form/Collection: Semi-annual and Annual Performance Reporting Data Catalog for Formula and Discretionary Grant Programs.

3. The agency form number, if any, and the applicable component of the Department sponsoring the collection: Form Number: 1122-XXXX. U.S. Department of Justice, Office on Violence Against Women.

4. Affected public who will be asked or required to respond, as well as the obligation to respond: Affected Public—The affected public includes grantees and subgrantees of federal grant programs authorized by the Violence Against Women Act of 1994 (as amended) and as administered by the Office on Violence Against Women. These include formula grant program administrators/grantees and subgrantees and discretionary grant program grantees.

5. An estimate of the total number of respondents and the amount of time estimated for an average respondent to respond: It is estimated that it will take the approximately 6,112 respondents, which includes grantees and subgrantees under programs authorized by the Violence Against Women Act of 1994 (as amended) and administered by the Office on Violence Against Women, approximately 60 minutes to complete a performance reporting form.

6. An estimate of the total annual burden (in hours) associated with the collection: It is estimated that it will take the approximately 6,112 respondents, which includes grantees and subgrantees under programs authorized by the Violence Against Women Act of 1994 (as amended) and administered by the Office on Violence Against Women, approximately 60 minutes to complete a performance reporting form.

7. An estimate of the total annual cost burden associated with the collection, if applicable: N/A.

Activity | Estimated number of respondents | Frequency | Total annual responses | Time per response (min) | Total annual burden (hours)
Formula Administrator Progress Reporting Form | 112 | Annually | 1 time | 60 | 112
Formula Subgrantee Progress Reporting Form | 3,000 | Annually | 1 time | 60 | 3,000
Discretionary Progress Reporting Form | 3,000 | Semi-annually | 2 times | 60 | 6,000
Total |  |  |  |  | 9,112

If additional information is required contact: Darwin Arceo, Department Clearance Officer, United States Department of Justice, Justice Management Division, Policy and Planning Staff, Two Constitution Square, 145 N Street NE, 4W-218, Washington, DC 20530.

Dated: August 19, 2024.
Darwin Arceo,
Department Clearance Officer for PRA, U.S. Department of Justice.

[FR Doc. 2024-18900 Filed 8-22-24; 8:45 am]

BILLING CODE 4410-FX-P